DEPARTMENT OF LABOR

Employment and Training Administration

[TA-W-52,475]

Fieldcrest Cannon, Inc., a Subsidiary of Pillowtex Corporation, Including Leased Workers of Corestaff Agency, and Manpower, Scottsboro, AL; Amended Certification Regarding Eligibility To Apply for Worker Adjustment Assistance

In accordance with Section 223 of the Trade Act of 1974 (19 U.S.C. 2273) the Department of Labor issued a Certification of Eligibility to Apply for Worker Adjustment Assistance on September 5, 2003, applicable to workers of Fieldcrest Cannon, Inc., a subsidiary of Pillowtex Corp., Bath Division, including leased workers of Corestaff Agency, Scottsboro, Alabama. The notice was published in the Federal Register on October 10, 2003 (68 FR 58720).

At the request of the State agency, the Department reviewed the certification for workers of the subject firm. Information provided by the company shows that leased workers of Manpower were employed at Fieldcrest Cannon, Inc., a subsidiary of Pillowtex Corp., Bath Division to produce bath rugs at the Scottsboro, Alabama location of the subject firm.

Based on these findings, the Department is amending this certification to include leased workers of Manpower working at Fieldcrest Cannon, Inc., a subsidiary of Pillowtex Corp., Bath Div., Scottsboro, Alabama.

The intent of the Department's certification is to include all workers employed at Fieldcrest Cannon, Inc., Bath Division who were adversely affected by increased imports of bath rugs.

The amended notice applicable to TA-W-52,475 is hereby issued as follows:

All workers of Fieldcrest Cannon, Inc., a subsidiary of Pillowtex Corporation, Bath Division, Scottsboro, Alabama and leased workers of Corestaff Agency and Manpower producing bath rugs at Fieldcrest Cannon, Inc., a subsidiary of Pillowtex Corporation, Bath Division, Scottsboro, Alabama, who became totally or partially separated from employment on or after August 6, 2002, through September 5, 2005, are eligible to apply for adjustment assistance under Section 223 of the Trade Act of 1974.

Signed at Washington, DC, this 6th day of November, 2003.
Elliott S. Kushner,
Certifying Officer, Division of Trade Adjustment Assistance.

[FR Doc. 03-29547 Filed 11-25-03; 8:45 am]

BILLING CODE 4510-30-P